DEPARTMENT OF JUSTICE

Notice of Consent Judgments Pursuant to the Comprehensive Environmental Response, Compensation and Liability Act

In accordance with Departmental Policy, 28 CFR 50.7, 38 Fed. Reg. 19029, and 42 U.S.C. 9622(d), notice is hereby given that a proposed Consent Decree in United States v. Bemis Company, Inc. and Pervel Industries, Inc., DOJ# 90-11-2-307B, Civ. No. 3:96-CV-02420 (AVC), was lodged in the United States District Court for the District of Connecticut on June 2, 2000. The Consent Decree resolves claims of the United States against Pervel Industries, Inc. and Bemis Company concerning enforcement of a February 1990 consent decree (United States v. Yaworski, Inc. et al., Civ. Act. No. N-89-615 (JAC) (D. Conn.)) relating to the Yaworski Lagoon Superfund Site located in Canterbury Township, Windham County, Connecticut (“Site”). Additionally, the Consent Decree resolves related claims for cost recovery under Section 107(a) of the Comprehensive Environmental Response, Compensation and Liability Act (“CERCLA”), 42 U.S.C. 9607(a), under the Federal Debt Collection Procedures Act, 28 U.S.C. 3001, et seq., and under the Federal Priority Statute, 31 U.S.C. 3701 et seq.

Under the proposed Consent Decree, Bemis and Pervel agree to reimburse the United States' response costs in the amount of $3 million, plus interest, which sum will be placed by EPA in a special site account for use at the Site. Additionally, Bemis and Pervel agree to pay jointly the sum of $40,000 to the Department of Interior (“DOI”) to resolve its potential claims for natural resource damages at the Site. In return, the United States covenants not to sue Settling Defendants for response costs incurred at the Site, for obligations under the 1990 consent decree, for natural resource damages under the trusteeship of DOI and the National Oceanic and Atmospheric Administration, and for other claims set forth in the complaint in this action.

The Department of Justice will receive, for a period of thirty (30) days from the date of this publication, written comments relating to the proposed Consent Decree. Comments should be addressed to the Assistant Attorney General for the Environment and Natural Resources Division, Department of Justice, Washington, D.C. 20530, and should refer to United States v. Bemis Company, Inc. and Pervel Industries, Inc., DOJ# 90-11-2-307B. The proposed Consent Decree may be examined at the Office of the United States Attorney, District of Connecticut, Room 328, 450 Main Street, Hartford, Conn. 06103; and at the Region II Office of the U.S. Environmental Protection Agency, 290 Broadway, New York, New York 10278. Copies of the Consent Decree may be obtained by mail from the Justice Department Consent Decree Library, P.O. Box 7611 Ben Franklin Station, Washington, DC 20044, (202) 514-1547. In requesting a copy, please enclose a check in the amount of $6.75 (25 cents per page reproduction costs) payable to the Consent Decree Library.

Joel M. Gross,
Environmental Enforcement Section, Environment and Natural Resources Division.

[FR Doc. 00-15593 Filed 6-20-00; 8:45 am]

BILLING CODE 4410-15-M